DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection in support of the program for the 1890 Land Grant Institutions Rural Entrepreneurial Program Outreach Initiative.

DATES: Comments on this notice must be received by February 6, 2006 to be considered.

FOR FURTHER INFORMATION CONTACT: Mr. Edgar L. Lewis, Program Manager, Rural Development, USDA, STOP 3252, Room 4221, 1400 Independence Avenue, SW., Washington, DC 20250-3252. Telephone: (202) 690-3407, E-mail: edgar.lewis@wdc.usda.gov.

SUPPLEMENTARY INFORMATION: Title: 1890 Land Grant Institutions Rural Entrepreneurial Program Outreach Initiative.

OMB Number: 0570-0041.

Expiration Date of Approval: March 31, 2006.

Type of Request: Extension of a currently approved information collection.

Abstract: The purpose of the 1890 Land Grant Institutions Rural Entrepreneurial Program Outreach Initiative is to provide technical assistance for business creation in economically challenged rural communities, for educational programs to develop and improve upon the professional skills of rural entrepreneurs, and for outreach and promotion of USDA Rural Development's programs in small rural communities with the greatest economic need. This initiative seeks to create a working partnership between USDA Rural Development and the 1890 Institutions through cooperative agreements.

Estimate of Burden: Public reporting burden for this collection is estimated to average 15 minutes to 15 hours per response.

Respondents: Only 1890 Land Grant Institutions of Higher Education and Tuskegee University.

Estimated Number of Respondents: 18.

Estimated Number of Responses per Respondent: 17.

Estimated Number of Responses: 297.

Estimated Total Annual Burden on Respondents: 762 hours.

Copies of this information collection can be obtained from Cheryl Thompson, Regulations and Paperwork Management Branch (202) 692-0043.

Comments

Comments are invited on: (a) Whether the proposed collection of information is necessary for the proper performance of the functions of Rural Development, including whether the information will have practical utility; (b) the accuracy of Rural Development's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to Cheryl Thompson, Regulations and Paperwork Management Branch, Rural Development, U.S. Department of Agriculture, STOP 0742, 1400 Independence Avenue, SW., Washington, DC 20250-0742. All responses to this notice will be summarized and included in the request for OMB approval. All comments will become a matter of public record.

Dated: November 30, 2005.
Roberta D. Purcell,
Acting Administrator, Rural Business-Cooperative Service.

[FR Doc. E5-6886 Filed 12-5-05; 8:45 am]

BILLING CODE 3410-XY-P